FEDERAL MARITIME COMMISSION

Ocean Transportation Intermediary License Applicants

The Commission gives notice that the following applicants have filed an application for an Ocean Transportation Intermediary (OTI) license as a Non-Vessel-Operating Common Carrier (NVO) and/or Ocean Freight Forwarder (OFF) pursuant to section 19 of the Shipping Act of 1984 (46 U.S.C. 40101). Notice is also given of the filing of applications to amend an existing OTI license or the Qualifying Individual (QI) for a licensee.

Interested persons may contact the Office of Ocean Transportation Intermediaries, Federal Maritime Commission, Washington, DC 20573, by telephone at (202) 523-5843 or by email at OTI@fmc.gov.

Fast Nova, Corp. (NVO & OFF), 1624 NW 82nd Avenue, Doral, FL 33126, Officers: Maria E. Salmon, President (QI), Nohora I. Estupinan, Secretary, Application Type: New NVO & OFF License.

Global Cargo Corporation (NVO & OFF), 2115 NW 84th Avenue, Miami, FL 33122, Officer: Homero Hauque, President (QI), Application Type: QI Change.

Gonzalez Exporting Corp. (OFF), 12235 SW 128th Street, Suite 207, Miami, FL 33186, Officers: Yolanda M. Gonzalez, President (QI), Dario Gonzalez, Director, Application Type: New OFF License.

I.L.S., Inc. dba Avalon Maritime (NVO & OFF), 18618 S. Ferris Place, Rancho Dominguez, CA 90220, Officers: Pierre Mazenod, President (QI), Siriporn Domsa, Secretary, Application Type: QI Change.

Integrated Logic, Inc. (NVO & OFF), 13805 Alton Parkway, Suite B, Irvine, CA 92618, Officers: Brett J. Macker, President (QI), Robert H. Ydens, Chairman, Application Type: New NVO & OFF License.

Maxcar Export, Inc. (NVO & OFF), 11251 NW 20th Street, Unit 121, Miami, FL 33172, Officers: Francis D. Hernandez, Vice President (QI), Semmin Safi, President, Application Type: New NVO & OFF License.

WorldBridge Logistics, Inc. (NVO & OFF), 6555 Quincy Road, Suite 201, Memphis, TN 38119, Officers: Gary F. Brown, Vice President (QI), Michael B. Barnett, Secretary, Application Type: Add OFF Service.

By the Commission.
Dated: July 17, 2014.
Karen V. Gregory,
Secretary.

[FR Doc. 2014-17389 Filed 7-23-14; 8:45 am]

BILLING CODE 6730-01-P